INTERNATIONAL TRADE COMMISSION

[Investigations Nos. 701-TA-267 (Review Remand) and 731-TA-304 (Review Remand)]

Top-of-the-Stove Stainless Steel Cooking Ware From Korea

Determinations of Remand

On March 17, 2000, the Commission determined that the revocation of the countervailing and antidumping duty orders on top-of-the-stove stainless steel cooking ware from Korea would be likely to lead to continuation or recurrence of material injury to an industry in the United States within a reasonably foreseeable time.¹ Those determinations were appealed to the U.S. Court of International Trade.

¹ Porcelain-on-Steel Cooking Ware from China, Mexico, and Taiwan, and Top-of-the-Stove Stainless Steel Cooking Ware from Korea and Taiwan, Invs. Nos. 701-TA-267and 268 (Review) and Invs. Nos. 731-TA-297-299, 304 and 305 (Review), USITC Pub. 3286 (March 2000).

On October 1, 2001, the Court affirmed the Commission's “domestic like product” determination and remanded the Commission's decision to cumulate subject imports from Korea and Taiwan.² On remand, the Commission again determines that revocation of the countervailing and antidumping duty orders on top-of-the-stove stainless steel cooking ware from Korea would be likely to lead to continuation or recurrence of material injury to an industry in the United States within a reasonably foreseeable time.³

² Chefline Corp. et al. v. United States, Court No. 00-05-00212, Slip Op. 01-118 (September 26, 2001).

³ Vice Chairman Deanna Tanner Okun and Commissioner Lynn M. Bragg dissenting.

The Commission transmitted its remand determinations to U.S. Court of International Trade on January 25, 2002. The views of the Commission are contained in USITC Publication 3485 (January 2002), entitled Top-of-the-Stove Stainless Steel Cooking Ware from Korea (Views on Remand): Investigations Nos. 701-TA-267 and 731-TA-304 (Review) (Remand).

By order of the Commission.
Issued: January 24, 2002.
Marilyn R. Abbott,
Acting Secretary.

[FR Doc. 02-2185 Filed 1-29-02; 8:45 am]

BILLING CODE 7020-02-P